U.S.-CHINA ECONOMIC AND SECURITY REVIEW COMMISSION

Notice of Postponement of Open Public Hearing—Seattle, WA

AGENCY: U.S.-China Economic and Security Review Commission.

ACTION: Notice of postponement of open public hearing.

SUMMARY: Notice is hereby given of the following postponement of hearing of the U.S.-China Economic and Security Review Commission scheduled for Seattle, Washington.

Name: C. Richard D'Amato, Chairman of the U.S.-China Economic and Security Review Commission.

The Commission's October 14th hearing scheduled in Seattle, Washington to examine “The Impact of U.S-China Trade and Investment on Pacific Northwest Industries” will not take place. It will be rescheduled for another date and time in early 2005. The Commission will announce the new date and venue when confirmed on its Web site at http://www.uscc.gov.

FOR FURTHER INFORMATION CONTACT: Any member of the public wishing further information concerning this notice of postponement should contact Kathy Michels, Associate Director for the U.S.-China Economic and Security Review Commission, 444 North Capitol Street, NW., Suite 602, Washington, DC 20001; phone 202-624-1409, or via e-mail at kmichels@uscc.gov.

Authority: The Commission was established in October 2000 pursuant to the Floyd D. Spence National Defense Authorization Act section 1238, Pub. L. 106-398, 114 Stat. 1654A-334 (2000) (codified at 22 U.S.C. section 7002 (2001), as amended, and the “Consolidated Appropriations Resolution of 2003,” Pub. L. 108-7 dated February 20, 2003).

Dated: October 7, 2004.
Kathleen J. Michels,
Associate Director, U.S.-China Economic and Security Review Commission

[FR Doc. 04-22907 Filed 10-7-04; 10:12 am]

BILLING CODE 1137-00-P